DEPARTMENT OF COMMERCE

Foreign-Trade Zones Board

[S-95-2024]

Foreign-Trade Zone 250—Sanford, Florida; Withdrawal of Application for Subzone

Notice is hereby given of the withdrawal of the application submitted by the Sanford Airport Authority, grantee of FTZ 250, requesting authority to establish a subzone on behalf of Boss Laser, LLC in Sanford, Florida. The application was docketed on August 15, 2024 (88 FR 67589, August 21, 2024). The withdrawal was requested by the grantee on October 31, 2024.

Dated: November 1, 2024.
Elizabeth Whiteman,
Executive Secretary.

[FR Doc. 2024-25771 Filed 11-5-24; 8:45 am]

BILLING CODE 3510-DS-P